DEPARTMENT OF TRANSPORTATION

Saint Lawrence Seaway Development Corporation

Advisory Board; Notice of Change of Meeting Location

The location of the meeting of the Advisory Board of the Saint Lawrence Seaway Development Corporation, to be held at 9 a.m. on Wednesday, April 12, 2000, notice of which was published in the Federal Register on March 30 (65 FR 17000), has been changed. The new location is the Sheraton West Palm Beach Hotel, 630 Clearwater Park Road, West Palm Beach, Florida.

Issued at Washington, D.C. on April 7, 2000.
Marc C. Owen,
Advisory Board Liaison.

[FR Doc. 00-9073 Filed 4-10-00; 8:45 am]

BILLING CODE 4910-61-M